DEPARTMENT OF COMMERCE

National Oceanic and Atmospheric Administration

[I.D. 120903D]

Marine Mammals; File No. 881-1724

AGENCY: National Marine Fisheries Service (NMFS), National Oceanic and Atmospheric Administration (NOAA), Commerce.

ACTION: Receipt of application.

SUMMARY: Notice is hereby given that the Alaska SeaLife Center, 301 Railway Avenue, Seward, Alaska 99664, has applied in due form for a permit to import and export marine mammal parts for purposes of scientific research.

DATES: Written or telefaxed comments must be received on or before January 16, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Amy Sloan or Ruth Johnson, (301)713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant requests authorization to import and export an unlimited number of specimen samples (hard and soft parts) from the following species: Antarctic fur seal (Arctocephalus gazella), Australian fur seal (Arctocephalus pusillus), Australian sea lion (Neophoca cinerea), California sea lion (Zalophus californianus), harbor seal (Phoca vitulina), northern fur seal (Callorhinus ursinus), ribbon seal (Phoca fasciata), ringed seal (Phoca hispida), Southern fur seal (Arctocephalus australis), Southern sea lion (Otaria flavescens), Steller sea lion (Eumetopias jubatus), beluga whale (Delphinapterus leucas), bowhead whale (Balaena mysticetus), gray whale (Eschrichtius robustus), humpback whale (Megaptera novaeangliae), killer whale (Orcinus orca), and sperm whale (Physeter catodon). Specimens would be collected from the following sources and then imported or exported: under existing permits in the country of origin; from legal subsistence hunts; from legal incidental bycatch; and from opportunistic collection of stranded carcasses. The purposes of this research are for a number of projects to study marine mammal population ecology, diet and nutrition, reproductive physiology, toxicology, and health. The applicant has requested a five-year permit.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: December 11, 2003.
Stephen L. Leathery,
Chief, Permits, Conservation and Education Division, Office of Protected Resources, National Marine Fisheries Service.

[FR Doc. 03-31138 Filed 12-16-03; 8:45 am]

BILLING CODE 3510-22-S